DEPARTMENT OF HOMELAND SECURITY

Federal Emergency Management Agency

[Docket ID FEMA-2015-0001; Internal Agency Docket No. FEMA-B-1523]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 17, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1523, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: July 24, 2015.
Roy E. Wright,
Deputy Associate Administrator for Insurance and Mitigation, Department of Homeland Security, Federal Emergency Management Agency.

I. Watershed-based studies:

Lower Suwannee Watershed
Community | Community map repository address
Maps Available for Inspection Online at: http://www.fema.gov/preliminaryfloodhazarddata
Gilchrist County, Florida, and Incorporated Areas
City of Trenton | City Hall, 114 North Main Street, Trenton, FL 32690.
Town of Fanning Springs | City Hall, 17651 NW 90th Court, Fanning Springs, FL 32693.
Unincorporated Areas of Gilchrist County | Gilchrist County Building and Zoning Department, 209 SE First Street, Trenton, FL 32690.
Levy County, Florida, and Incorporated Areas
Unincorporated Areas of Levy County | Levy County Building Department, 9010 NE 79th Avenue, Bronson, FL 32621.
Madison County, Florida, and Incorporated Areas
Unincorporated Areas of Madison County | Madison County Building Department, 229 S.W. Pickney Street, Madison, FL 32340.
Suwannee County, Florida, and Incorporated Areas
Unincorporated Areas of Suwannee County | County Coordinator's Office, Suwannee County Courthouse, 200 South Ohio/MLK Jr. Avenue, Live Oak, FL 32064.

Tug Fork Watershed
Community | Community map repository address
Maps Available for Inspection Online at: http://www.fema.gov/preliminaryfloodhazarddata
Wayne County, West Virginia, and Incorporated Areas
City of Kenova | Municipal Building, 1501 Pine Street, Kenova, WV 25530.
Town of Ceredo | Town Hall, 700 B Street, Ceredo, WV 25507.
Town of Fort Gay | Town Hall, 3407 Wayne Street, Fort Gay, WV 25514.
Unincorporated Areas of Wayne County | County Courthouse, 700 Hendricks Street, Wayne, WV 25570.

Wheeler Lake Watershed
Community | Community map repository address
Maps Available for Inspection Online at: http://www.fema.gov/preliminaryfloodhazarddata
Franklin County, Tennessee, and Incorporated Areas
Unincorporated Areas of Franklin County | Franklin County Planning and Zoning Office, Courthouse Basement, Room Five, One South Jefferson Street, Winchester, TN 37398.
Lawrence County, Tennessee, and Incorporated Areas
Unincorporated Areas of Lawrence County | Lawrence County Building Official's Office, County Courthouse, 240 West Gaines Street, Lawrenceburg, TN 38464.
Lincoln County, Tennessee, and Incorporated Areas
Unincorporated Areas of Lincoln County | Lincoln County Courthouse, 312 West Market Street, Fayetteville, TN 37334.

II. Non-watershed-based studies:

Community | Community map repository address
Marion County, Florida, and Incorporated Areas
Maps Available for Inspection Online at: http://www.fema.gov/preliminaryfloodhazarddata
Project: 15-04-2839S Preliminary Date: March 31, 2015
City of Ocala | Department of Public Works, 1805 Northeast 30th Avenue, Ocala, FL 34470.
Unincorporated Areas of Marion County | Marion County Growth Services, 2710 East Silver Springs Boulevard, Ocala, FL 34470.
Athens-Clarke County, Georgia (All Jurisdictions)
Maps Available for Inspection Online at: http://www.fema.gov/preliminaryfloodhazarddata
Project: 14-04-A055S Preliminary Date: February 13, 2015
Athens-Clarke County | 120 West Dougherty Street, Athens, GA 30601.
DeKalb County, Georgia, and Incorporated Areas
Maps Available for Inspection Online at: http://www.fema.gov/preliminaryfloodhazarddata
Project: 12-04-7371S Preliminary Date: January 2, 2015
City of Lithonia | City Hall, 6920 Main Street, Lithonia, GA 30058.
City of Stone Mountain | City Hall, 875 Main Street, Stone Mountain, GA 30083.
Unincorporated Areas of DeKalb County | DeKalb County Public Works, Roads and Drainage Division, 727 Camp Road, Decatur, GA 30032.
Rockdale County, Georgia, and Incorporated Areas
Maps Available for Inspection Online at: http://www.fema.gov/preliminaryfloodhazarddata
Project: 12-04-7371S Preliminary Date: January 2, 2015
City of Conyers | Planning and Inspection Services, 1174 Scott Street, Conyers, GA 30012.
Unincorporated Areas of Rockdale County | Rockdale County Administration and Services Building, 958 Milstead Avenue, Conyers, GA 30012.
Walton County, Georgia, and Incorporated Areas
Maps Available for Inspection Online at: http://www.fema.gov/preliminaryfloodhazarddata
Project: 12-04-7371S Preliminary Date: January 2, 2015
City of Loganville | Planning and Development Office, 4385 Pecan Street, Loganville, GA 30052.
City of Monroe | City Hall, 215 North Broad Street, Monroe, GA 30655.
City of Social Circle | City Hall, 138 East Hightower Trail, Social Circle, GA 30025.
City of Walnut Grove | Walnut Grove City Hall, 2581 Leone Avenue, Loganville, GA 30052.
Town of Between | Between Town Hall, 2150 New Hope Church Road Southwest, Monroe, GA 30655.
Unincorporated Areas of Walton County | Walton County Planning and Development Office, 303 South Hammond Drive, Monroe, GA 30655.
Washington County, Maryland, and Incorporated Areas
Maps Available for Inspection Online at: http://www.fema.gov/preliminaryfloodhazarddata
Project: 14-03-3545S Preliminary Date: March 31, 2015
City of Hagerstown | City Hall, One East Franklin Street, Hagerstown, MD 21740.
Town of Boonsboro | Town Hall, 21 North Main Street, Boonsboro, MD 21713.
Town of Clear Spring | Town Hall, 146 Cumberland Street, Clear Spring, MD 21722.
Town of Funkstown | Town Hall, 30 East Baltimore Street, Funkstown, MD 21734.
Town of Hancock | Town Hall, 126 West High Street, Hancock, MD 21750.
Town of Keedysville | Town Hall, 19 South Main Street, Keedysville, MD 21756.
Town of Sharpsburg | Town Hall, 106 East Main Street, Sharpsburg, MD 21782.
Town of Smithsburg | Town Hall, 21 West Water Street, Smithsburg, MD 21783.
Town of Williamsport | Town Hall, Two North Conococheague Street, Williamsport, MD 21795.
Unincorporated Areas of Washington County | Washington County Administrative Annex, 80 West Baltimore Street, Hagerstown, MD 21740.
Dukes County, Massachusetts (All Jurisdictions)
Maps Available for Inspection Online at: http://www.fema.gov/preliminaryfloodhazarddata
Project: 11-01-0527S Preliminary Dates: June 3, 2013 and April 27, 2015
Town of Aquinnah | Town Hall, 65 State Road, Aquinnah, MA 02535.
Town of Chilmark | Town Hall, 401 Middle Road, Chilmark, MA 02535.
Town of Edgartown | Town Hall, 70 Main Street, Edgartown, MA 02539.
Town of Gosnold | Gosnold Town Hall, 28 Tower Hill Road, Cuttyhunk Island, MA 02713.
Town of Oak Bluffs | Town Hall, 56 School Street, Oak Bluffs, MA 02557.
Town of Tisbury | Tisbury Town Hall, 51 Spring Street, Vineyard Haven, MA 02568.
Town of West Tisbury | Town Hall, 1059 State Road, West Tisbury, MA 02575.
Bernalillo County, New Mexico, and Incorporated Areas
Maps Available for Inspection Online at: http://www.fema.gov/preliminaryfloodhazarddata
Project: 14-06-3984S Preliminary Date: February 23, 2015
City of Albuquerque | Development Review Services Division, 600 2nd Street Northwest, Suite 201, Albuquerque, NM 87102.
Unincorporated Areas of Bernalillo County | Bernalillo County Public Works Division, 2400 Broadway Southeast, Albuquerque, NM 87102.
Bladen County, North Carolina, and Incorporated Areas
Maps Available for Inspection Online at: http://www.fema.gov/preliminaryfloodhazarddata
Project: 14-04-9706S Preliminary Date: April 30, 2014
Unincorporated Areas of Bladen County | Bladen County Courthouse, 106 East Broad Street, Room 107, Elizabethtown, NC 28337.
Bladen County, North Carolina, and Incorporated Areas
Maps Available for Inspection Online at: http://www.fema.gov/preliminaryfloodhazarddata
Project: 14-04-9707S Preliminary Date: August 29, 2014
Town of Bladenboro | Town Hall, 305 South Main Street, Bladenboro, NC 28320.
Unincorporated Areas of Bladen County | Bladen County Courthouse, 106 East Broad Street, Room 107, Elizabethtown, NC 28337.
Bladen County, North Carolina, and Incorporated Areas
Maps Available for Inspection Online at: http://www.fema.gov/preliminaryfloodhazarddata
Project: 14-04-9708S Preliminary Date: August 29, 2014
Unincorporated Areas of Bladen County | Bladen County Courthouse, 106 East Broad Street, Room 107, Elizabethtown, NC 28337.
Brunswick County, North Carolina, and Incorporated Areas
Maps Available for Inspection Online at: http://www.fema.gov/preliminaryfloodhazarddata
Project: 11-04-8240S Preliminary Date: August 29, 2014
City of Boiling Spring Lakes | City Hall, 9 East Boiling Spring Road, Boiling Spring Lakes, NC 28461.
City of Southport | City Hall, 201 East Moore Street, Southport, NC 28461.
Town of Belville | Belville Town Hall, 117 G Village Road, Leland, NC 28451.
Town of Calabash | Town Hall, 882 Persimmon Road, Calabash, NC 28567.
Town of Carolina Shores | Town Hall, 200 Persimmon Road, Carolina Shores, NC 28467.
Town of Caswell Beach | Town Hall, 1100 Caswell Beach Road, Caswell Beach, NC 28465.
Town of Holden Beach | Town Hall, 110 Rothschild Street, Holden Beach, NC 28462.
Town of Leland | Town Hall, 102 Town Hall Drive, Leland, NC 28451.
Town of Navassa | Town Hall, 334 Main Street, Navassa, NC 28451.
Town of Oak Island | Town Hall, 4601 East Oak Island Drive, Oak Island, NC 28465.
Town of Ocean Isle Beach | Town Hall, 3 West Third Street, Ocean Isle Beach, NC 28469.
Town of Shallotte | Town Hall, 106 Cheers Street, Shallotte, NC 28470.
Town of St. James | St. James Town Hall, 3628 St. James Drive, Southport, NC 28461.
Town of Sunset Beach | Town Hall, 700 Sunset Boulevard North, Sunset Beach, NC 28468.
Town of Varnamtown | Varnamtown Town Hall, 100 Varnamtown Road, Supply, NC 28462.
Unincorporated Areas of Brunswick County | Brunswick County Building Inspections Department, 75 Courthouse Drive, Building One, Bolivia, NC 28422.
Columbus County, North Carolina, and Incorporated Areas
Maps Available for Inspection Online at: http://www.fema.gov/preliminaryfloodhazarddata
Project: 11-04-8240S Preliminary Date: August 29, 2014
City of Whiteville | City Hall, 317 South Madison Street, Whiteville, NC 28472.
Town of Boardman | Boardman Town Hall, 1241 Old Boardman Road, Evergreen, NC 28438.
Town of Cerro Gordo | Town Hall, 36 West Railroad Street, Cerro Gordo, NC 28430.
Town of Fair Bluff | Town Hall, 1175 Main Street, Fair Bluff, NC 28439.
Town of Tabor City | Town Manager's Office, 103 East Fourth Street, Tabor City, NC 28463.
Unincorporated Areas of Columbus County | Columbus County Tax Office, 110 Courthouse Square, Whiteville, NC 28472.
Duplin County, North Carolina, and Incorporated Areas
Maps Available for Inspection Online at: http://www.fema.gov/preliminaryfloodhazarddata
Project: 11-04-6510S Preliminary Date: April 30, 2014
Town of Beulaville | Town Hall, 111 West Quinn Street, Beulaville, NC 28518.
Town of Wallace | Town Hall, 316 East Murray Street, Wallace, NC 28466.
Town of Warsaw | Town Hall, 121 South Front Street, Warsaw, NC 28398.
Unincorporated Areas of Duplin County | Duplin County Planning Department, 224 Seminary Street, Kenansville, NC 28349.
Duplin County, North Carolina, and Incorporated Areas
Maps Available for Inspection Online at: http://www.fema.gov/preliminaryfloodhazarddata
Project: 14-04-9708S Preliminary Date: August 29, 2014
Town of Wallace | Town Hall, 316 East Murray Street, Wallace, NC 28466.
Unincorporated Areas of Duplin County | Duplin County Planning Department, 224 Seminary Street, Kenansville, NC 28349.
New Hanover County, North Carolina, and Incorporated Areas
Maps Available for Inspection Online at: http://www.fema.gov/preliminaryfloodhazarddata
Project: 11-04-6510S Preliminary Date: August 29, 2014
City of Wilmington | Planning, Development and Transportation Department, Planning Division, 305 Chestnut Street, Wilmington, NC 28401.
Town of Carolina Beach | Town Hall, Planning Department, 1121 North Lake Park Boulevard, Carolina Beach, NC 28428.
Town of Kure Beach | Town Hall, Building Inspections, 117 Settlers Lane, Kure Beach, NC 28449.
Town of Wrightsville Beach | Town Hall, Planning and Parks Department, 321 Causeway Drive, Wrightsville Beach, NC 28480.
Unincorporated Areas of New Hanover County | New Hanover County Development Services Office, 230 Government Center Drive, Suite 110, Wilmington, NC 28403.
Onslow County, North Carolina, and Incorporated Areas
Maps Available for Inspection Online at: http://www.fema.gov/preliminaryfloodhazarddata
Project: 14-04-9708S Preliminary Date: August 29, 2014
Town of Holly Ridge | Town Hall, 212 North Dyson Street, Holly Ridge, NC 28445.
Unincorporated Areas of Onslow County | Onslow County Floodplain Administration, 604 College Street, Jacksonville, NC 28540.
Pender County, North Carolina, and Incorporated Areas
Maps Available for Inspection Online at: http://www.fema.gov/preliminaryfloodhazarddata
Project: 11-04-6510S Preliminary Date: August 29, 2014
Town of Atkinson | Town Hall, 200 North Town Hall Avenue, Atkinson, NC 28421.
Town of Burgaw | City Hall, 109 North Walker Street, Burgaw, NC 28425.
Town of Surf City | Building Inspection Department, 214 North New River Drive, Surf City, NC 28445.
Town of Topsail Beach | Building Inspection Department, 820 South Anderson Boulevard, Topsail Beach, NC 28445.
Town of Watha | Town Hall, 425 Watha Road, Watha, NC 28478.
Unincorporated Areas of Pender County | Pender County Planning Department, 805 South Walker Street, Burgaw, NC 28425.
Village of Saint Helena | Village Hall, 305 East Main Street, Saint Helena, NC 28425.
Pender County, North Carolina, and Incorporated Areas
Maps Available for Inspection Online at: http://www.fema.gov/preliminaryfloodhazarddata
Project: 14-04-9706S Preliminary Date: April 30, 2014
Unincorporated Areas of Pender County | Pender County Planning Department, 805 South Walker Street, Burgaw, NC 28425.
Robeson County, North Carolina, and Incorporated Areas
Maps Available for Inspection Online at: http://www.fema.gov/preliminaryfloodhazarddata
Project: 11-04-8240S Preliminary Date: August 29, 2014
City of Lumberton | Planning Department, 501 East 5th Street, Lumberton, NC 28358.
Town of Maxton | 201 McCaskill Street, Maxton, NC 28364.
Town of Pembroke | Town Hall, 100 South Union Chapel Road, Pembroke, NC 28372.
Unincorporated Areas of Robeson County | Robeson County Inspections and Zoning Department, 415 Country Club Drive, Lumberton, NC 28358.
Sampson County, North Carolina, and Incorporated Areas
Maps Available for Inspection Online at: http://www.fema.gov/preliminaryfloodhazarddata
Project: 11-04-6510S Preliminary Date: April 30, 2014
City of Clinton | City Hall, 227 Lisbon Street, Clinton, NC 28329.
Town of Autryville | Town Hall, 215 South Gray Street, Autryville, NC 28318.
Town of Garland | Town Hall, 190 South Church Street, Garland, NC 28441.
Town of Newton Grove | Town Hall, 304 West Weeksdale Street, Newton Grove, NC 28366.
Unincorporated Areas of Sampson County | Sampson County Inspections Department, 383 County Complex Road, Clinton, NC 28328.
Sampson County, North Carolina, and Incorporated Areas
Maps Available for Inspection Online at: http://www.fema.gov/preliminaryfloodhazarddata
Project: 14-04-9708S Preliminary Date: August 29, 2014
Unincorporated Areas of Sampson County | Sampson County Inspections Department, 383 County Complex Road, Clinton, NC 28328.
Scotland County, North Carolina, and Incorporated Areas
Maps Available for Inspection Online at: http://www.fema.gov/preliminaryfloodhazarddata
Project: 14-04-9707S Preliminary Date: August 29, 2014
Unincorporated Areas of Scotland County | Scotland County Government Administration Building, 507 West Covington Street, Laurinburg, NC 28352.
Richland County, South Carolina, and Incorporated Areas
Maps Available for Inspection Online at: http://www.fema.gov/preliminaryfloodhazarddata
Project: 11-04-7987S Preliminary Date: April 30, 2015
City of Cayce | City Hall, 1800 12th Street, Cayce, SC 29033.
City of Columbia | Department of Utilities and Engineering, 1136 Washington Street, Columbia, SC 29201.
City of Forest Acres | City Hall, 5209 North Trenholm Road, Forest Acres, SC 29206.
Town of Arcadia Lakes | Arcadia Lakes Town Hall, 6911 North Trenholm Road, Suite Two, Columbia, SC 29206.
Town of Blythewood | Town Hall, 171 Langford Road, Blythewood, SC 29016.
Town of Eastover | Town Hall, 624 Main Street, Eastover, SC 29044.
Town of Irmo | Town Hall, 7300 Woodrow Street, Irmo, SC 29063.
Unincorporated Areas of Richland County | Richland County Department of Public Works, 400 Powell Road, Columbia, SC 29203.
Llano County, Texas, and Incorporated Areas
Maps Available for Inspection Online at: http://www.fema.gov/preliminaryfloodhazarddata
Project: 14-06-4736S Preliminary Date: January 15, 2015
City of Llano | City Hall, 301 West Main Street, Llano, TX 78643.
Unincorporated Areas of Llano County | Llano County Land Development and Permitting, 100 West Sandstone Street, Suite 200A, Llano, TX 78643.

[FR Doc. 2015-20342 Filed 8-18-15; 8:45 am]

BILLING CODE 9110-12-P